DEPARTMENT OF ENERGY

Federal Energy Regulatory Commission

Notice of Settlement Agreement and Soliciting Comments

April 6, 2006.

Take notice that the following settlement agreement has been filed with the Commission and is available for public inspection.

a. Type of Application: Settlement Agreement.

b. Project No.: P-2195.

c. Date Filed: March 30, 2006.

d. Applicant: Portland General Electric Company.

e. Name of Project: Clackamas River Hydroelectric Project.

f. Location: On the Clackamas River, Clackamas County, Oregon. The Project occupies some U.S. Forest Service and Bureau of Land Management Lands.

g. Filed Pursuant to: Rule 602 of the Commission's Rules of Practice and Procedure, 18 CFR 385.602.

h. Applicant Contact: Julie Keil, Portland General Electric Company, 121 SW., Salmon Street, Portland, Oregon 97204, Phone: 503-464-8864.

i. FERC Contact: John Blair, at 202-502-6092; e-mail john.blair@ferc.gov.

j. Deadline for Filing Comments: 20 days from the notice date. Reply comments due 30 days from the notice date.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Portland General Electric Company filed the Settlement Agreement on behalf of the Company and the U.S. Fish and Wildlife Service, Bureau of Land Management, National Marine Fisheries Service, U.S. Department of Agriculture Forest Service, Oregon Department of Environmental Quality, Oregon Department of Fish and Wildlife, Oregon Water Resources Department, Oregon Parks and Recreation Department, Oregon State Marine Board, Confederated Tribes of the Warm Springs Reservation of Oregon, the Confederated Tribes of Siletz Indians of Oregon, the Confederated Tribes of the Grand Ronde, The City of Estacada, Oregon, Clackamas River Water, Sunrise Water Authority, South Fork Water Board, North Clackamas County Water Commission, Oak Lodge Water District, Alder Creek Kayak and Canoe, All Star Rafting, American Rivers, American Whitewater, Blue Sky Rafting, Clackamas River Basin Council, Destination Wilderness, Oregon Trout, The Native Fish Society, Northwest Steelheaders, Playboatingnorthwest.com, River Drifters Whitewater Tours, Trout Unlimited, and WaterWatch of Oregon. The purpose of the Settlement Agreement is to resolve among the signatories, issues regarding the licensing of the Clackamas River Hydroelectric Project. These parties represent the major stakeholders with interests affected by the relicensing of the Project. All Parties have agreed that the Settlement is fair and reasonable and in the public interest. The signatories request that the Commission accept the Offer of Settlement and adopt it as part of a new license without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E6-5446 Filed 4-12-06; 8:45 am]

BILLING CODE 6717-01-P